ENVIRONMENTAL PROTECTION AGENCY

[CERCLA-04-2020-2501; FRL-10007-79-Region 4]

Ward Transformer Superfund Site, Raleigh, North Carolina; Notice of Settlement

AGENCY: Environmental Protection Agency (EPA).

ACTION: Notice of settlement.

SUMMARY: Under 122(h) of the Comprehensive Environmental Response, Compensation and Liability Act (CERCLA), the United States Environmental Protection Agency (EPA) has entered into an Administrative Settlement Agreement and Order on Consent for Removal Actions with Ward Transformer Co. Inc., Ward Ventures, LLC and Reward Properties, LLC (collectively “Ward”) concerning the Ward Transformer Superfund Site located in Raleigh, North Carolina. The settlement addresses recovery of CERCLA costs for a cleanup action performed by the EPA at the Site.

DATES: The Agency will consider public comments on the settlement until August 24, 2020. The Agency will consider all comments received and may modify or withdraw its consent to the proposed settlement if comments received disclose facts or considerations which indicate that the proposed settlement is inappropriate, improper, or inadequate.

ADDRESSES: Copies of the settlement are available from the Agency by contacting Ms. Paula V. Painter, Program Analyst, using information provided in this notice or through the Agency's web page https://www.epa.gov/aboutepa/about-epa-region-4-southeast#r4-public-notices. Comments may be submitted by referencing the Site's name or Docket # CERCLA-04-2020-2501 and emailed to Painter.Paula@epa.gov.

FOR FURTHER INFORMATION CONTACT: Paula V. Painter at 404/562-8887.

Dated: April 14, 2020.
Maurice Horsey,
Chief, Enforcement Branch, Superfund & Emergency Management Division.

Editorial Note: This document was received for publication by the Office of the Federal Register on July 20, 2020.

[FR Doc. 2020-15962 Filed 7-22-20; 8:45 am]

BILLING CODE 6560-50-P